SMALL BUSINESS ADMINISTRATION

[Disaster Declaration #12770 and #12771]

Puerto Rico Disaster Number PR-00015

AGENCY: U.S. Small Business Administration.

ACTION: Amendment 3.

SUMMARY: This is an amendment of the Presidential declaration of a major disaster for Public Assistance only for the Commonwealth of Puerto Rico (FEMA-4017-DR), dated 08/27/2011.

Incident: Hurricane Irene.

Incident Period: 08/21/2011 through 08/24/2011.

Effective Date: 09/28/2011.

Physical Loan Application Deadline Date: 10/26/2011.

Economic Injury (Eidl) Loan Application Deadline Date: 05/28/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the President's major disaster declaration for Private Non-Profit organizations in the Commonwealth of Puerto Rico, dated 08/27/2011, is hereby amended to include the following areas as adversely affected by the disaster.

Primary Municipalities:Loiza, Penuelas, San Juan.

All other information in the original declaration remains unchanged.

(Catalog of Federal Domestic Assistance Numbers 59002 and 59008)

James E. Rivera,
Associate Administrator for Disaster Assistance.

[FR Doc. 2011-25933 Filed 10-5-11; 8:45 am]

BILLING CODE 8025-01-P